DEPARTMENT OF TRANSPORTATION

Federal Aviation Administration

Advisory Circular (AC) 25.613-1, Material Strength Properties and Material Design Values

AGENCY: Federal Aviation Administration (FAA), DOT.

ACTION: Notice of issuance of advisory circular.

SUMMARY: The Federal Aviation Administration announces the issuance of Advisory Circular (AC) 25.613-1, “Material Strength Properties and Material Design Values.” The advisory circular provides guidance related to a recently published amendment concerning material strength properties and material design values for transport category airplanes.

DATES: Advisory Circular 25.613-1 was issued by the FAA Transport Airplane Directorate on August 6, 2003.

How to Obtain Copies: An electronic copy of AC 25.613-1 can be downloaded from the Internet at http://www.airweb.faa.gov/rgl by taking the following steps: Click on “Advisory Circulars.” Under “Search Help” click on “Current ACs by Number.” A paper copy will be available in approximately 6-8 weeks from the U.S. Department of Transportation, subsequent distribution Office, DOT Warehouse, SVC-121.23, Ardmore East Business Center, 3341Q 75th Avenue, Landover, MD 20785, telephone 301-322-5377, or by faxing your request to the warehouse at 301-386-5394.

Issued in Renton, Washington, on August 6, 2003.
Vi L. Lipski,
Manager, Transport Airplane Directorate, Aircraft Certification Service.

[FR Doc. 03-22923 Filed 9-8-03; 8:45 am]

BILLING CODE 4910-13-M